DEPARTMENT OF LABOR

Occupational Safety and Health Administration

29 CFR Parts 1910, 1915, and 1926

RIN 1218-AB45

Occupational Exposure to Hexavalent Chromium; Approval of Information Collection Requirements

AGENCY: Occupational Safety and Health Administration (OSHA), Department of Labor.

ACTION: Final rule; notice of Office of Management and Budget (OMB) approval of collection of information requirements.

SUMMARY: OSHA is announcing that the collection of information requirements contained in the Chromium (VI) standard (29 CFR parts 1910, 1915, 1917, 1918, and 1926) have been approved by OMB under the Paperwork Reduction Act of 1995. The OMB approval number is 1218-0252.

DATES: This final rule is effective July 5, 2006.

FOR FURTHER INFORMATION CONTACT: Todd Owen, OSHA, Directorate of Standards and Guidance, Room N-3609, U.S. Department of Labor, 200 Constitution Avenue, NW., Washington, DC 20210; telephone (202) 693-2222.

SUPPLEMENTARY INFORMATION: OSHA published a final rule for chromium (VI) (Cr(VI)) on February 28, 2006, after determining that employees exposed to Cr(VI) are at increased risk of developing lung cancer (71 FR 10099). In addition, occupational exposure to Cr(VI) may result in asthma, and damage to the nasal passages and the skin. The final rule becomes effective on May 30, 2006. As required by the Paperwork Reduction Act of 1995, the Federal Register notice for the Cr(VI) final rule stated that compliance with the collection of information requirements was not required until these requirements are approved by OMB, and the Department of Labor publishes a notice in the Federal Register announcing that OMB approved and assigned a control number to the Cr(VI) requirements. Under 5 CFR 1320.5(b), an agency may not conduct or sponsor a collection of information unless: (1) The collection of information displays a current valid OMB control number, and (2) the agency informs members of the public who must respond to the collection of information that they are not required to respond to the collection of information unless the agency displays a currently valid OMB control number.

On February 27, 2006, OSHA submitted the Cr(VI) information collection request for the final rule to OMB for approval in accordance with the Paperwork Reduction Act of 1995 (44 U.S.C. 3501-3520). On March 28, 2006, OMB approved the collections of information contained in the final rule and assigned this collection OMB Control Number 1218-0252 title “Chromium (VI) Standards for General Industry (29 CFR 1910.1026), Shipyard Employment (29 CFR 1915.1026),¹ and Construction (29 CFR 1926.1126).” The approval for the collection expires on March 31, 2009. The approved collections of information are:

¹ The standard for shipyard employment also applies to marine terminals (29 CFR part 1917) and longshoring (29 CFR part 1918).

• Exposure Determination—1910.1026(d), 1915.1026(d), and 1926.1126(d).

Paragraphs 1910.1026(d)(2), 1915.1026(d)(2), and 1926.1126(d)(2)—Scheduled monitoring option.

Paragraphs 1910.1026(d)(3), 1915.1026(d)(3), and 1926.1126(d)(3)—Performance-oriented option.

Paragraphs 1910.1026(d)(4), 1915.1026(d)(4), and 1926.1126(d)(4)—Employee notification of determination results.

• Regulated Areas—1910.1026(e).

Paragraphs 1910.1026(e)(2)—Demarcation.

• Respiratory Protection—1910.1026(g), 1915.1026(f), and 1926.1126(f).

Paragraphs 1910.1026(g)(2), 1915.1026(f)(2), and 1926.1126(f)(2)—Respiratory protection program (in accordance with 29 CFR 1910.134).

• Protective Work Clothing and Equipment—1910.1026(h), 1915.1026(g), and 1926.1126(g).

Paragraph 1910.1026(h)(2), 1915.1026(g)(2), and 1926.1126(g)(2)—Warning labels for bags or containers used to store Cr(VI)-contaminated protective clothing.

Paragraphs 1910.1026(h)(3), 1915.1026(g)(3), and 1926.1126(g)(3)—Informing laundry contractors about the potentially harmful effects of exposure of Cr(VI).

• Housekeeping—1910.1026(j).

Paragraph 1910.1026(j)(3)(ii)—Labeling bags or containers of waste, scrap, debris, and any other materials contaminated with Cr(VI).

• Medical Surveillance—1910.1026(k), 1915.1026(i), and 1926.1126(i).²

² The Supporting Statement submitted to OMB identifies these information collections as follows:

Initial medical examination—paragraphs 1910.1026(k)(1)(i)(A), (k)(3)(i), and (k)(3)(ii); 1915.1026(i)(1)(i)(A), (i)(3)(i), and (i)(3)(ii), and 1926.1126(i)(1)(i)(A), (i)(3)(i), and (i)(3)(ii).

Annual medical examination—paragraphs 1910.1026(k)(2)(ii), (k)(3)(i), and (k)(3)(ii); 1915.1026(i)(2)(ii), (i)(3)(i), and (i)(3)(ii); and 1926.1126(i)(2)(ii), (i)(3)(i), and (i)(3)(ii).

Initial medical examination with additional tests—paragraphs 1910.1026(k)(1)(i)(B) and (k)(3)(i)-(k)(3)(iii); 1915.1026(i)(1)(i)(B) and (i)(3)(i)-(i)(3)(iii); and 1926.1126(i)(1)(i)(B) and (i)(3)(i)-(i)(3)(iii).

Annual medical examination with additional tests—paragraphs 1910.1026(k)(2)(ii) and (k)(3)(i)-(k)(3)(iii); 1915.1026(i)(2)(ii) and (i)(3)(i)-(i)(3)(iii); and 1926.1126(i)(2)(ii) and (i)(3)(i)-(i)(3)(ii).

Medical examination after initial assignment— paragraphs 1910.1026(k)(2)(i), (k)(3)((i), and (k)(3)(ii); 1915.1026(i)(2)(i), (i)(3)(i), and (i)(3)(ii); and 1926.1126(i)(2)(i), (i)(3)(i), and (i)(3)(ii).

Medical examination at termination of employment—paragraphs 1910.1026(k)(2)(vi) and (k)(3)(i)-(k)(3)(iii); 1915.1026(i)(2)(vi) and (i)(3)(i)-(i)(3)(iii); and 1926.1126(i)(2)(vi) and (i)(3)(i)-(i)(3)(iii).

Paragraphs 1910.1026(k)(1), 1915.1026(i)(1), and 1926.1126(i)(1)—General.

Paragraphs 1910.1026(k)(2); 1915.1026(i)(2), and 1926.1126(i)(2)—Frequency.

Paragraphs 1910.1026(k)(3); 1915.1026(i)(3); and 1926.1126(i)(3)—Contents of examination.

Paragraphs 1910.1026(k)(4), 1915.1026(i)(4) and 1926.1126(i)(4)—Information provided to the physician or other licensed health care professional (PLHCP).

Paragraphs 1910.1026(k)(5), 1915.1026(i)(5), and 1926.1126(i)(5)—PLHCP's written medical opinion.

• Communication of Chromium (VI) Hazards to Employees—1910.1026(l), 1915.1026(j), and 1926.1126(j).

Paragraphs 1910.1026(l)(2), 1915.1026(j)(2), and 1926.1126(j)(2)—Employee information and training.

• Recordkeeping—1910.1026(m), 1915.1026(k), and 1926.1126(k).

Paragraphs 1910.1026(m)(1), 1915.1026(k)(1), and 1926.1126(k)(1)—Air monitoring data.

Paragraphs 1910.1026(m)(2), 1915.1026(k)(2), and 1926.1126(k)(2)—Historical monitoring data.

Paragraphs 1910.1026(m)(3), 1915.1026(k)(3), and 1926.1126(k)(3)—Objective data.

Paragraphs 1910.1026(m)(4), 1915.1026(k)(4), and 1926.1126(k)(4)—Medical surveillance.

Authority and Signature

Edwin G. Foulke, Jr., Assistant Secretary of Labor for Occupational Safety and Health, directed the preparation of this notice. The authority for this notice is the Paperwork Reduction Act of 1995 (44 U.S.C. 3506 et seq.), and Secretary of Labor's Order No. 5-2002 (67 FR 65008).

List of Subjects in 29 CFR Parts 1910, 1915, and 1926

Occupational safety and health, Reporting and recordkeeping requirements.

Signed at Washington, DC, on June 19, 2006.
Edwin G. Foulke, Jr.,
Assistant Secretary.

Amendments to Standards

For the reasons stated in the preamble to this final rule, the Occupational Safety and Health Administration amends 29 CFR parts 1910, 1915, and 1926 to read as follows:

PART 1910—[AMENDED]

Subpart A—[Amended]

1. Revise the authority citation for subpart A to read as follows:

Authority: Sections 4, 6, and 8 of the Occupational Safety and Health Act of 1970 (29 U.S.C. 653, 655, and 657); Secretary of Labor's Order No. 12-71 (36 FR 8754), 8-76 (41 FR 25059), 9-83 (48 FR 35736), 1-90 (55 FR 9033), 6-96 (62 FR 111), 3-2000 (65 FR 50017), and 5-2002 (67 FR 65008), as applicable.

Sections 1910.7 and 1910.8 also issued under 29 CFR part 1911. Section 1910.7(f) also issued under 31 U.S.C. 9701, 29 U.S.C. 9 a, 5 U.S.C. 553; Public Law 106-113 (113 Stat. 1501A-222); and OMB Circular A-25 (dated July 8, 1993) (58 FR 38142, July 15, 1993).

2. Amend § 1910.8 by adding to the table contained therein the entry “1910.1026” in the proper numerical sequence as follows:

§ 1910.8 OMB control numbers under the Paperwork Reduction Act.

* * * * *

29 CFR citation | OMB control No.
* * * * *
1910.1026 | 1218-0252
* * * * *

PART 1915—[AMENDED]

3. Revise the authority citation for part 1915 to read as follows:

Authority: Section 41, Longshore and Harbor Workers' Compensation Act (33 U.S.C. 941); sections 4, 6, and 8 of the Occupational Safety and Health Act of 1970 (29 U.S.C. 653, 655, and 657); Secretary of Labor's Order No. 12-71 (36 FR 8754), 8-76 (41 FR 25059), 9-83 (48 FR 35736), 1-90 (55 FR 9033), 6-96 (62 FR 111), 3-2000 (65 FR 50017), and 5-2002 (67 FR 65008), as applicable.

Sections 1915.120 and 1915.152 also issued under 29 CFR part 1911.

Section 1915.1001 also issued under 5 U.S.C. 553.

Subpart A—[Amended]

4. Amend § 1915.8 by adding to the table contained therein the entry “1915.1026” in the proper numerical sequence as follows:

§ 1915.8 OMB control numbers under the Paperwork Reduction Act.

* * * * *

29 CFR citation | OMB control No.
* * * * *
1915.1026 | 1218-0252
* * * * *

PART 1926—[AMENDED]

Subpart A—[Amended]

5. Revise the authority citation for subpart A to read as follows:

Authority: Section 3704 of the Contract Work Hours and Safety Standards Act (40 U.S.C. 3701 et seq.); sections 4, 6, and 8 of the Occupational Safety and Health Act of 1970 (29 U.S.C. 653, 655, and 657); Secretary of Labor's Order No. 12-71 (36 FR 8754), 8-76 (41 FR 25059), 9-83 (48 FR 35736), 1-90 (55 FR 9033), 6-96 (62 FR 111), 3-2000 (65 FR 50017), and 5-2002 (67 FR 65008), as applicable; and 29 CFR part 1911.

6. Amend § 1926.5 by adding to the table contained therein the entry “1926.1126” in the proper numerical sequence as follows:

§ 1926.5 OMB control numbers under the Paperwork Reduction Act.

* * * * *

29 CFR citation | OMB control No.
* * * * *
1926.1126 | 1218-0252
* * * * *

[FR Doc. 06-5955 Filed 7-3-06; 8:45 am]

BILLING CODE 4510-26-M